DEPARTMENT OF ENERGY

Notice of Availability for the Draft Programmatic Environmental Assessment for the Recycling of Scrap Metals Originating From Radiological Areas

AGENCY: Department of Energy.

ACTION: Notice of availability.

SUMMARY: The Department of Energy (DOE) announces the availability for public review and comment of the Draft Programmatic Environmental Assessment (PEA) for the Recycling of Scrap Metals Originating from Radiological Areas. On September 28, 2011, the Secretary of Energy approved a recommendation, contingent on the completion of the appropriate National Environmental Policy Act (NEPA) review, to delegate authority to manage radiological clearance and release of scrap metal from radiological areas to each Under Secretary for sites under his or her cognizance, in accordance with the processes contained in DOE Order 458.1 (which replaces the order previously governing release procedures). This Draft PEA for the Recycling of Scrap Metals Originating from Radiological Areas analyzes the potential environmental impacts associated with resuming the clearance of scrap metal, originating from DOE radiological areas, for recycling pursuant to improved procedures designed to assure that clearance for release is limited to metals meeting stringent criteria. This Draft PEA also analyzes the reasonable alternatives to this proposal. Metals with volumetric radiological contamination, and scrap metals resulting from Resource Conservation and Recovery Act (RCRA) and Comprehensive Environmental Response, Compensation, and Liability Act (CERCLA), are not included in the scope of this PEA.

DATES: DOE invites Federal agencies, state and local governments, Native American tribes, industry, other interested organizations, and members of the public to submit comments on the Draft PEA during the public comment period which starts with the publication of the Notice of Availability in the Federal Register and extends for 30 days until January 11, 2013. DOE will consider comments received after this date to the extent practicable.

ADDRESSES: The Draft PEA for the Recycle of Scrap Metal Originating from Radiological Areas is available for review on the DOE NEPA Web site at: http://www.energy.gov/nepa and on the National Nuclear Security Administration (NNSA) NEPA Web site at: http://nnsa.energy.gov/nepa. Comments on the Draft PEA for the Recycle of Scrap Metal Originating from Radiological Areas may be submitted electronically via email to Scrap_PEA comments@hq.doe.gov. Alternatively, written comments may be sent by postal mail to: Dr. Jane Summerson, DOE NNSA, P.O. Box 5400, Bldg 401, K.AFB East, Albuquerque, NM 87185.

For general information about the DOE NEPA process, please contact: Ms. Carol Borgstrom, Director, Office of NEPA Policy and Compliance (GC-54), U.S. Department of Energy, 1000 Independence Avenue SW., Washington, DC 20585, telephone (202) 586-4600, or leave a message at 1-800-472-2756. Additional information regarding DOE NEPA activities and access to many of DOE's NEPA documents are available on the Internet through the DOE NEPA Web site at http://www.energy.gov/nepa.

SUPPLEMENTARY INFORMATION: DOE has prepared the Draft PEA for Recycling of Scrap Metals Originating from Radiological Areas in accordance with Council on Environmental Quality regulations (40 CFR Parts 1500—1508) that implement NEPA and DOE's NEPA Implementing Procedures (10 CFR Part 1021).

Background: On July 13, 2000, the Secretary of Energy imposed an agency-wide suspension on the unrestricted release of scrap metal originating from radiological areas at DOE facilities for the purpose of recycling. The suspension was imposed in response to public concerns about the potential effects of radioactivity in or on metal recycled from the Department's facilities. Other materials continued to be controlled and cleared for release under the requirements of DOE Order 5400.5, Radiation Protection of the Public and the Environment. Initially, the suspension was to remain in effect until December 31, 2000, while the Department developed and implemented improvements, revised its directives and associated guidance documents applicable to scrap metal releases, and engaged the public in a dialogue regarding DOE radiological release practices through the NEPA process. In 2001, DOE announced its intention to prepare a Programmatic Environmental Impact Statement (PEIS) on the policy alternatives for disposition of metals from its sites. Although the suspension was considered to be a temporary measure, it has been in force since 2000, and the PEIS was not completed. From 2008 through 2010, the Department, through an effort lead by the NNSA and supported by the Offices of Health, Safety and Security; Science; and Environmental Management, reviewed numerous DOE programs across the complex that involved improved monitoring and proposed release practices to determine how these practices could be implemented. In April 2010, NNSA hosted an inter-site workshop that developed a DOE wide consensus regarding how sites would implement these practices. In February 2011, in part to implement the improved monitoring and release practices recommended in 2001, DOE replaced DOE Order 5400.5 with DOE Order 458.1, Radiation Protection of the Public and the Environment, which incorporated an improved scrap metals clearance process. Consequently, DOE has determined that a Programmatic Environmental Assessment (PEA) is appropriate to consider the alternatives for the disposition of uncontaminated scrap metal originating from these areas.

Purpose and Need for Agency Action: The purpose and need for agency action is to allow DOE to better manage materials no longer needed by the Department and to allow for the recycle, where appropriate, of materials originating from DOE radiological areas. These scrap metals have, and continue to be, accumulated at DOE sites since the 2000 Department-wide suspension on any unrestricted release for recycle of scrap metals originating from radiological areas at DOE facilities (DOE 2000). The proposed action is consistent with the principles of sustainable materials management as presented in Executive Order (E.O.) 13423, Strengthening Federal Environmental, Energy, and Transportation Management (January 27, 2007) and E.O. 13514, Federal Leadership in Environmental Energy, and Economic Performance (October 5, 2009).

Alternatives Analyzed: This PEA analyzes the potential human health and environmental impacts associated with the proposed action, a disposal alternative, and a no-action (continued storage) alternative.

Potential Outcome: The proposed action would allow DOE to modify its policy to allow the delegation of authority from the Secretary to the Under Secretaries to manage the radiological clearance process for uncontaminated scrap metals originating in DOE radiological areas for sites demonstrated to have robust monitoring and release practices in place. Scrap metal that meets these robust practices for unrestricted release would be candidates for recycle. Scrap metal that does not meet these requirements would be identified as contaminated and maintained by DOE or disposed of as waste in an appropriate manner. This PEA also evaluates potential human health and environmental impacts associated with a disposal alternative, and a no-action (continued storage) alternative.

Metal with volumetric radiological contamination, and scrap metal resulting from RCRA and CERCLA clean-up activities, are not included in the scope of the PEA. Impacts associated with scrap metal releases from any such clean-up activities would be evaluated separately under NEPA as appropriate. In addition, sites under the Office of Legacy Management are not included since these facilities do not generate potentially radiologically contaminated scrap metal that would be recycled.

Following the end of the public comment period, DOE will consider all comments received while completing the PEA, and as appropriate, issue a Finding of No Significant Impact (FONSI) or prepare a PEIS prior to deciding whether to implement a revision to the policy for clearance and release of scrap metal from radiological areas.

Issued in Washington, DC, on December 6, 2012.
Thomas P. D'Agostino,
Under Secretary for Nuclear Security and Administrator, National Nuclear Security Administration.

[FR Doc. 2012-30028 Filed 12-11-12; 8:45 am]

BILLING CODE 6450-01-P